DEPARTMENT OF ENERGY

Federal Energy Regulatory Commission

Combined Notice of Filings # 1

April 29, 2008.

Take notice that the Commission received the following electric corporate filings:

Docket Numbers: EC08-75-000; EL08-57-000.

Applicants: KeySpan-Ravenswood, LLC; TransCanada Facility USA, Inc.

Description: KeySpan-Ravenswood, LLC submits an application for Petitions for issuance of declaratory orders etc.

Filed Date: 04/21/2008.

Accession Number: 20080422-0157.

Comment Date: 5 p.m. Eastern Time on Wednesday, May 21, 2008.

Docket Numbers: EC08-80-000.

Applicants: Celerity Energy Partners San Diego LLC.

Description: Application of Celerity Energy Partners San Diego LLC for Authorization for Disposition of Jurisdictional Facilities.

Filed Date: 04/25/2008.

Accession Number: 20080425-5129.

Comment Date: 5 p.m. Eastern Time on Friday, May 16, 2008.

Take notice that the Commission received the following exempt wholesale generator filings:

Docket Numbers: EG08-67-000.

Applicants: CPV Maryland, LLC.

Description: Notice of Exempt Wholesale Generator Status of CPV Maryland, LLC.

Filed Date: 04/28/2008.

Accession Number: 20080428-5110.

Comment Date: 5 p.m. Eastern Time on Monday, May 19, 2008.

Docket Numbers: EG08-68-000.

Applicants: Montgomery L'Energia Power Partners LP.

Description: Notice of Self-Certification of Exempt Wholesale Generator Status of Montgomery L'Energia Power Partners LP.

Filed Date: 04/28/2008.

Accession Number: 20080428-5133.

Comment Date: 5 p.m. Eastern Time on Monday, May 19, 2008.

Take notice that the Commission received the following electric rate filings:

Docket Numbers: ER99-1522-004; ER02-723-003; ER04-359-002; ER06-796-002; ER07-553-001; ER07-554-001; ER07-555-001; ER07-556-001; ER07-557-001.

Applicants: Bangor Hydro-Electric Company; Emera Energy Services, Inc.; Emera Energy U.S. Subsidiary No. 1, Inc; Emera Energy U.S. Subsidiary No. 2, Inc.; Emera Energy Services Subsidiary No. 3 LLC; Emera Energy Services Subsidiary No. 1 LLC; Emera Energy Services Subsidiary No. 4 LLC; Emera Energy Services Subsidiary No. 2 LLC; Emera Energy Services Subsidiary No. 5 LLC.

Description: Bangor Hydro-Electric Company et al. submits a second errata to the 1/14/08 and additional revisions to their market-based rate tariff.

Filed Date: 04/23/2008.

Accession Number: 20080425-0062.

Comment Date: 5 p.m. Eastern Time on Wednesday, May 14, 2008.

Docket Numbers: ER99-2251-008; ER99-2252-009; ER98-2491-014; ER97-705-019; ER02-2080-008; ER02-2546-009; ER99-3248-011; ER99-1213-009; ER01-1526-009.

Applicants: Consolidated Edison Company of New York, Inc.; Orange and Rockland Utilities, Inc.; Consolidated Edison Energy, Inc; Consolidated Edison Solutions, Inc.; Ocean Peaking Power, L.L.C.; CED Rock Springs, Inc.; Consolidated Edison Energy of Massachusetts; Lakewood Cogeneration, L.P.; Newington Energy, L.L.C.

Description: The Con Edison Companies submit their Triennial Market Power Analysis and request for shortened comment period.

Filed Date: 04/21/2008.

Accession Number: 20080424-0207.

Comment Date: 5 p.m. Eastern Time on Monday, May 12, 2008.

Docket Numbers: ER02-506-009; ER98-2783-012; ER99-3822-012; ER07-841-002; ER01-140-008; ER07-842-002; ER00-1895-010; ER07-843-002; ER07-844-002; ER07-845-002; ER07-846-002; ER99-4160-013; ER01-141-008; ER07-847-002; ER00-3696-009; ER01-943-008; ER05-1266-006; ER08-451-001; ER01-3109-010; ER01-1044-009; ER99-2157-009; ER02-553-008; ER03-42-013.

Applicants: Bluegrass Generation Company, LLC; Bridgeport Energy, LLC; Casco Bay Energy Company, LLC; Dynegy Arlington Valley, LLC; Dynegy Danskammer, L.L.C.; Dynegy Kendall Energy, LLC; Dynegy Midwest Generation, Inc.; Dynegy Mohave, LLC; Dynegy Morro Bay, LLC; Dynegy Moss Landing, LLC; Dynegy Oakland, LLC; Dynegy Power Marketing, Inc.; Dynegy Roseton, L.L.C.; Dynegy South Bay, LLC; Griffith Energy LLC; Heard County Power, LLC; Ontelaunee Power Operating Co, LLC; Plum Point Energy Associates, LLC; Renaissance Power, L.L.C; Riverside Generating Company, LLC; Rocky Road Power, LLC; Rolling Hills Generating, LLC; Sithe/Independence Power Partners, L.P.

Description: Supplemental Information—Joint Notification of Change in Status of Bluegrass Generation Company, LLC, et al.

Filed Date: 04/18/2008.

Accession Number: 20080421-5082.

Comment Date: 5 p.m. Eastern Time on Friday, May 09, 2008.

Docket Numbers: ER01-316-028.

Applicants: ISO New England Inc.

Description: ISO New England Inc. submits their Index of Customers for the first quarter of 2008 under the ISO's FERC Tariff for Transmission Dispatch and Power Administration Services.

Filed Date: 04/21/2008.

Accession Number: 20080423-0023.

Comment Date: 5 p.m. Eastern Time on Monday, May 12, 2008.

Docket Numbers: ER01-989-005.

Applicants: Green Mountain Power Corporation.

Description: Green Mountain Power Corp. submits an updated market power analysis and revisions to its market-based rate power sales tariff.

Filed Date: 04/24/2008.

Accession Number: 20080428-0111.

Comment Date: 5 p.m. Eastern Time on Thursday, May 15, 2008.

Docket Numbers: ER05-320-005; ER02-999-007; ER97-2460-010; ER97-2463-007.

Applicants: Unitil Energy Systems, Inc.; Unitil Power Corporation; Fitchburg Gas and Electric Light Company.

Description: Unitil Energy Systems, Inc et al. submit their substitute tariff sheets in compliance with Order 697.

Filed Date: 04/23/2008.

Accession Number: 20080425-0064.

Comment Date: 5 p.m. Eastern Time on Wednesday, May 14, 2008.

Docket Numbers: ER05-905-001.

Applicants: Celerity Energy Partners San Diego, LLC.

Description: Celerity Energy Partners San Diego, LLC submits notice of change in status, in compliance with Order 652.

Filed Date: 04/25/2008.

Accession Number: 20080428-0118.

Comment Date: 5 p.m. Eastern Time on Friday, May 16, 2008.

Docket Numbers: ER07-1332-003.

Applicants: Smoky Hills Wind Farm, LLC.

Description: Smoky Hills Wind Farm, LLC submits notice of non-material change in status.

Filed Date: 04/25/2008.

Accession Number: 20080428-0119.

Comment Date: 5 p.m. Eastern Time on Friday, May 16, 2008.

Docket Numbers: ER08-28-002.

Applicants: Puget Sound Energy, Inc.

Description: Puget Sound Energy Inc. submits revisions to PSE's Open Access Transmission Tariff to comply with the directives of the December 4 Order and the April 9 Order, PSE enclosed revisions as FERC Electric Tariff Eighth Revised Volume 7 et al.

Filed Date: 04/24/2008.

Accession Number: 20080428-0018.

Comment Date: 5 p.m. Eastern Time on Thursday, May 15, 2008.

Docket Numbers: ER08-397-002.

Applicants: ALLETE, Inc.

Description: ALLETE, Inc. dba Minnesota Power submits an errata to correct the base fuel cost included in the wholesale energy and capacity full requirements contracts, etc.

Filed Date: 04/24/2008.

Accession Number: 20080428-0017.

Comment Date: 5 p.m. Eastern Time on Thursday, May 15, 2008.

Docket Numbers: ER08-782-000.

Applicants: Union Electric Company.

Description: Union Electric Company submits notice of withdrawal of its application under Section 205 of the Federal Power Act.

Filed Date: 04/24/2008.

Accession Number: 20080428-0109.

Comment Date: 5 p.m. Eastern Time on Thursday, May 15, 2008.

Docket Numbers: ER08-783-000.

Applicants: Ameren Energy Marketing Company.

Description: Ameren Energy Marketing Co submits notice of withdrawal of its application under section 205 of the Federal Power Act submitted on 4/2/08.

Filed Date: 04/24/2008.

Accession Number: 20080428-0110.

Comment Date: 5 p.m. Eastern Time on Thursday, May 15, 2008.

Docket Numbers: ER08-860-000.

Applicants: CER Generation II, LLC.

Description: CER Generation II, LLC submits an Application for Order Authorizing Market-Based rates, Certain Waivers, and Blanket Authorizations of CER Generation II, LLC.

Filed Date: 04/22/2008.

Accession Number: 20080425-0095.

Comment Date: 5 p.m. Eastern Time on Tuesday, May 13, 2008.

Docket Numbers: ER08-867-000.

Applicants: New York Independent System Operator, Inc.

Description: New York Independent System Operator, Inc submits an Agreement to Amend Joint Operating Agreement Among with PJM Interconnection, LLC etc.

Filed Date: 04/23/2008.

Accession Number: 20080428-0114.

Comment Date: 5 p.m. Eastern Time on Wednesday, May 14, 2008.

Docket Numbers: ER08-866-000.

Applicants: Tampa Electric Company.

Description: Tampa Electric Company submits Seventh Revised Sheet 70 and 71 to their First Revised Rate Schedule 62, comprising its Interchange Service Contract etc.

Filed Date: 04/25/2008.

Accession Number: 20080428-0113.

Comment Date: 5 p.m. Eastern Time on Friday, May 16, 2008.

Docket Numbers: ER08-868-000.

Applicants: Commonwealth Edison Company.

Description: Commonwealth Edison Company and Commonwealth Edison Company of Indiana, Inc's CD containing its revision of Attachment H-13 of the PJM Open Access Transmission Tariff.

Filed Date: 04/24/2008.

Accession Number: 20080424-4001.

Comment Date: 5 p.m. Eastern Time on Thursday, May 15, 2008.

Docket Numbers: ER08-869-000.

Applicants: Montana-Dakota Utilities Co.

Description: Montana-Dakota Utilities Co's CD containing notice of cancellation of its Open Access Transmission Tariff for the Wyoming System.

Filed Date: 04/24/2008.

Accession Number: 20080424-4002.

Comment Date: 5 p.m. Eastern Time on Thursday, May 15, 2008.

Docket Numbers: ER08-870-000.

Applicants: Ameren Services Company.

Description: Central Illinois Public Service Company submits an executed service agreement for Wholesale Distribution Service with Illinois Municipal Electric Agency.

Filed Date: 04/25/2008.

Accession Number: 20080428-0115.

Comment Date: 5 p.m. Eastern Time on Friday, May 16, 2008.

Docket Numbers: ER08-871-000.

Applicants: Southwest Power Pool, Inc.

Description: Southwest Power Pool, Inc submits revisions to its Membership Agreement, to become effective 8/10/05.

Filed Date: 04/25/2008.

Accession Number: 20080428-0116.

Comment Date: 5 p.m. Eastern Time on Friday, May 16, 2008.

Docket Numbers: ER08-872-000.

Applicants: Tampa Electric Company.

Description: Tampa Electric Co submits its Seventh Revised Sheet 118 for inclusion in Second Revised Rate Schedule 49 etc.

Filed Date: 04/25/2008.

Accession Number: 20080428-0117.

Comment Date: 5 p.m. Eastern Time on Friday, May 16, 2008.

Docket Numbers: ER08-874-000.

Applicants: Tampa Electric Company.

Description: Tampa Electric Company submits revised rate schedule sheets for inclusion in the rate schedules comprising Tampa Electric bilateral interchange contracts with 16 other utilities.

Filed Date: 04/25/2008.

Accession Number: 20080428-0122.

Comment Date: 5 p.m. Eastern Time on Friday, May 16, 2008.

Take notice that the Commission received the following electric securities filings:

Docket Numbers: ES08-42-000.

Applicants: Southern Indiana Gas & Electric Company.

Description: Revision to Application of Southern Indiana Gas and Electric Company for Authority to Issue Short-Term Debt.

Filed Date: 04/25/2008.

Accession Number: 20080428-5028.

Comment Date: 5 p.m. Eastern Time on Friday, May 9, 2008.

Docket Numbers: ES08-46-000.

Applicants: Consumers Energy Company.

Description: Application of Consumers Energy Company for Authority to Issue Long Term Securities Under Section 204 of the Federal Power Act.

Filed Date: 04/25/2008.

Accession Number: 20080425-5096.

Comment Date: 5 p.m. Eastern Time on Friday, May 16, 2008.

Docket Numbers: ES08-47-000.

Applicants: Consumers Energy Company.

Description: Application for Authority to Issue Short Term Securities of Consumers Energy Company.

Filed Date: 04/25/2008.

Accession Number: 20080428-5050.

Comment Date: 5 p.m. Eastern Time on Friday, May 16, 2008.

Take notice that the Commission received the following open access transmission tariff filings:

Docket Numbers: OA07-105-001.

Applicants: Puget Sound Energy, Inc.

Description: Order No. 890 OATT Filing of Puget Sound Energy, Inc.

Filed Date: 04/25/2008.

Accession Number: 20080425-5091.

Comment Date: 5 p.m. Eastern Time on Friday, May 16, 2008.

Docket Numbers: OA07-114-001.

Applicants: PacifiCorp.

Description: PacifiCorp submits revised Open Access Transmission Tariff sheets for Attachment C, request that the Revised Attachment C be accepted for filing, effective 9/11/07, in compliance with the Commission's 3/25/08 letter order.

Filed Date: 04/24/2008.

Accession Number: 20080428-0021.

Comment Date: 5 p.m. Eastern Time on Thursday, May 15, 2008.

Any person desiring to intervene or to protest in any of the above proceedings must file in accordance with Rules 211 and 214 of the Commission's Rules of Practice and Procedure (18 CFR 385.211 and .214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Nathaniel J. Davis, Sr.,
Deputy Secretary.

[FR Doc. E8-10160 Filed 5-7-08; 8:45 am]

BILLING CODE 6717-01-P